DEPARTMENT OF ENERGY

Federal Energy Regulatory Commission

[Project No. 12721-006]

Pepperell Hydro Company, LLC; Notice of Application Accepted for Filing With the Commission, Intent To Waive Scoping, Soliciting Motions To Intervene and Protests, Ready for Environmental Analysis, and Soliciting Comments, Terms and Conditions, Recommendations, and Prescriptions, and Establishing an Expedited Schedule for Processing

Take notice that the following hydroelectric application has been filed with the Commission and is available for public inspection.

a. Type of Application: Original Major License.

b. Project No.: 12721-006.

c. Date filed: October 9, 2013.

d. Applicant: Pepperell Hydro Company, LLC.

e. Name of Project: Pepperell Hydroelectric Project.

f. Location: On the Nashua River, in the town of Pepperell, Middlesex County, Massachusetts. The project would not occupy lands of the United States.

g. Filed Pursuant to: Federal Power Act 16 U.S.C. 791(a)-825(r).

h. Applicant Contact: Dr. Peter B. Clark, 823 Bay Road, P.O. Box 149, Hamilton, MA 01936; (978) 468-3999; or pclark@swiftrivercompany.com.

i. FERC Contact: Brandon Cherry at (202) 502-8328 or brandon.cherry@ferc.gov.

j. Deadline for filing motions to intervene and protests, comments, terms and conditions, recommendations, and prescriptions: 60 days from the issuance date of this notice; reply comments are due 105 days from the issuance date of this notice.

The Commission strongly encourages electronic filing. Please file motions to intervene and protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12721-006.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing, unlicensed Pepperell Hydroelectric Project consists of: (1) The 23.5-foot-high, 251-foot-long concrete gravity ogee Pepperell Paper dam that includes a 244-foot-long spillway with a crest elevation of 197.0 feet North American Vertical Datum 1988 (NAVD88) and 3-foot-high wooden flashboards; (2) a 3.5-mile-long, 294-acre impoundment with a normal water surface elevation of 200.0 feet NAVD88; (3) a 25-foot-long, 26-foot-wide intake structure with two 7.75-foot-wide, 14-foot-high leaf intake gates; (4) a 12-foot-diameter, 565.5-foot-long penstock; (5) a 14- to 58-foot-wide, 25.5-foot-long forebay structure that includes a 1.5-foot-diameter gate with low level drain pipe and a 4.25-foot-wide, 3.5-foot-high trash sluice gate; (6) six 8-foot-wide, 10-foot-high turbine bay headgates with 17.33-foot-high trashracks with 1.75-inch clear bar spacing; (7) a 62-foot-wide, 41-foot-long powerhouse containing a 640-kilowatt (kW) turbine-generating unit, an approximately 735-kW turbine-generating unit, and an approximately 764-kW turbine-generating unit for a total installed capacity of 2,139 kW; (8) three 11.5-foot-long turbine draft tubes; (9) three 30-foot-long, 600-volt transmission lines connecting the turbine-generating units to National Grid's Massachusetts Electric Company's distribution system; and (10) appurtenant facilities.

The existing project also includes a downstream fish passage facility that consists of: (1) A 3-foot-wide, 23-foot-long concrete intake with a 4-foot-wide, 8-foot-high entrance gate; (2) a collection channel with a 2-foot-high, 2-foot-wide overflow stoplog notch; and (3) a 5-foot-deep plunge pool.

The existing project bypasses approximately 700 feet of the Nashua River.

Pepperell Hydro Company, LLC proposes to install a new low flow turbine-generating unit at the dam. The proposed project features would consist of: (1) A 15-foot-long, 8-foot-wide, and 22-foot-high intake tower that includes a 4-foot-wide, 4.5-foot-high low level drain; (2) a 14-foot-long, 3.25-foot-wide trashrack with 0.5-inch clear bar spacing; (3) a 3.5-foot-diameter, 24-foot-long penstock; (4) a 67.5-kW low flow turbine-generating unit; (5) a 4-foot-long turbine draft tube; and (6) a 650-foot-long, 600-volt transmission line connecting the low flow turbine-generating unit to the existing powerhouse.

Pepperell Hydro Company, LLC proposes to operate the project in a run-of-river mode and release: (1) 46 cubic feet per second (cfs) or inflow to the bypassed reach from March 1 through November 30, which would include 17 cfs or inflow through the existing downstream fish passage facility from June 15 through October 30; and (2) 15 cfs or inflow to the bypassed reach from December 1 through February 28. The project would have an estimated average annual generation of 7,997 megawatt-hours.

m. Due to the project works already existing and the limited scope of proposed modifications to the project site described above, the applicant's coordination with federal and state agencies during the preparation of the application, and completed studies during pre-filing consultation, we intend to waive scoping and expedite the licensing process. Based on a review of the application, resource agency consultation letters, and comments filed to date, Commission staff intends to prepare a single environmental assessment (EA). Commission staff determined that the issues that need to be addressed in its EA have been adequately identified during the pre-filing period, and no new issues are likely to be identified through additional scoping. The EA will consider assessing the potential effects of project construction and operation on geology and soils, aquatic, terrestrial, threatened and endangered species, recreation and land use, aesthetic, and cultural and historic resources.

n. A copy of the application is available for review at the Commission in the Public Reference Room or may be viewed on the Commission's Web site at http://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. A license applicant must file no later than 60 days following the date of issuance of this notice: (1) A copy of the water quality certification; (2) a copy of the request for certification, including proof of the date on which the certifying agency received the request; or (3) evidence of waiver of water quality certification.

q. Procedural schedule: The application will be processed according to the following procedural schedule. Revisions to the schedule may be made as appropriate.

Milestone | Target date
Issue Notice of the Availability of the EA | August 2014.

Dated: April 1, 2014.
Kimberly D. Bose,
Secretary.

[FR Doc. 2014-07691 Filed 4-4-14; 8:45 am]

BILLING CODE 6717-01-P